DEPARTMENT OF TRANSPORTATION

Federal Railroad Administration

49 CFR Part 224

[Docket No. FRA-1999-6689, Notice No. 5]

RIN 2130-AB41

Reflectorization of Rail Freight Rolling Stock

AGENCY: Federal Railroad Administration (FRA), Department of Transportation (DOT).

ACTION: Final rule; stay of effectiveness.

SUMMARY: This document stays the effectiveness 49 CFR part 224, which mandates the reflectorization of certain freight rolling stock. Part 224 was established by final rule on January 3, 2005, and took effect on March 4, 2005. FRA received three petitions for reconsideration in response to the final rule. Accordingly, in order to allow FRA appropriate time to respond to the petitions for reconsideration, this document stays the effectiveness of part 224 until further notice is published in the Federal Register.

DATES: As of May 24, 2005, the effectiveness of 49 CFR part 224 is stayed until further notice is published in the Federal Register.

FOR FURTHER INFORMATION CONTACT: Dr. Tom Blankenship, Mechanical Engineer, Office of Safety, FRA, 1120 Vermont Ave., NW., Mailstop 25, Washington, DC 20590 (telephone: 202-493-6446); Lucinda Henriksen, Trial Attorney, Office of Chief Counsel, FRA, 1120 Vermont Ave., NW., Mailstop 10, Washington, DC 20590 (telephone: 202-493-6038).

SUPPLEMENTARY INFORMATION: On January 3, 2005, FRA published a final rule adding a new part to the CFR mandating the reflectorization of certain freight rolling stock (freight cars and locomotives). See 70 FR 144. The effective date of this part, 49 CFR part 224, was March 4, 2005. FRA received three petitions for reconsideration in response to the final rule. Accordingly, in order to allow FRA appropriate time to respond to the petitions for reconsideration, this document stays the effectiveness of part 224 until further notice is published in the Federal Register. Therefore, any requirements imposed by part 224 need not be complied with until a document is published in the Federal Register announcing the date when part 224 will be effective. That date will be at least 60 days after the publication of such document, in order to provide sufficient notice to interested parties.

This action is being taken under the authority of 49 U.S.C. 20103, 20107, 20148 and 21301; 28 U.S.C. 2461; and 49 CFR 1.49.

List of Subjects in 49 CFR Part 224

Incorporation by reference, Penalties, Railroad locomotive safety, Railroad safety, and Reporting and recordkeeping requirements.

The Rule

In consideration of the foregoing, FRA stays part 224 of chapter II, subtitle B, of title 49, Code of Federal Regulations.

Issued in Washington, DC, on May 24, 2005.
Robert D. Jamison,
Acting Administrator.

[FR Doc. 05-10633 Filed 5-25-05; 8:45 am]

BILLING CODE 4910-06-P